DEPARTMENT OF THE INTERIOR

Bureau of Ocean Energy Management

[OMB Control Number 1010-0072; Docket ID: BOEM-2017-0016]

Agency Information Collection Activities; Commercial Prospecting, Noncommercial Geological and Geophysical Exploration, and Scientific Research for Minerals Other Than Oil, Gas, and Sulfur on the Outer Continental Shelf

AGENCY: Bureau of Ocean Energy Management, Interior.

ACTION: Notice of information collection; request for comment.

SUMMARY: In accordance with the Paperwork Reduction Act of 1995, the Bureau of Ocean Energy Management (BOEM) proposes to renew an information collection request (ICR).

DATES: Interested persons are invited to submit comments on or before September 20, 2021.

ADDRESSES: Written comments and recommendations for the proposed information collection should be sent to the Office of Management and Budget's Desk Officer for the Department of the Interior within 30 days of publication of this notice at www.reginfo.gov/public/do/PRAMain. Find this information collection by selecting “Currently under Review—Open for Public Comments” or by using the search function. Please provide a copy of your comments to the BOEM Information Collection Clearance Officer, Anna Atkinson, Bureau of Ocean Energy Management, 45600 Woodland Road, Sterling, Virginia 20166; or by email to anna.atkinson@boem.gov. Please reference Office of Management and Budget (OMB) Control Number 1010-0072 in the subject line of your comments.

FOR FURTHER INFORMATION CONTACT: Anna Atkinson by email at anna.atkinson@boem.gov or by telephone at 703-787-1025.

SUPPLEMENTARY INFORMATION: In accordance with the Paperwork Reduction Act of 1995, BOEM provides the general public and Federal agencies with an opportunity to comment on new, proposed, revised, and continuing collections of information. This helps BOEM assess the impact of the information collection requirements and minimize the public's reporting burden. It also helps the public understand BOEM's information collection requirements.

Title of Collection: Commercial Prospecting, Noncommercial Geological and Geophysical Exploration, and Scientific Research for Minerals Other Than Oil, Gas, and Sulfur on the Outer Continental Shelf.

Abstract: This ICR covers the information collection requirements in 30 CFR part 580, “Prospecting for Minerals Other than Oil, Gas, and Sulphur ¹ on the Outer Continental Shelf [OCS],” which concern commercial prospecting and scientific research. This request also includes information collection requirements related to authorizations of noncommercial geological and geophysical (G&G) exploration issued pursuant to section 11 of the Outer Continental Shelf Lands Act (OCS Lands Act), as amended (43 U.S.C. 1340 et seq., and 43 U.S.C. 1801 et seq.).

¹ BOEM acknowledges that the generally and scientifically accepted spelling for this compound is sulfur. Throughout this notice, BOEM uses the spelling consistent with its current regulations.

The OCS Lands Act authorizes the Secretary of the Interior (Secretary) to prescribe rules and regulations to administer leasing of mineral resources on the OCS. Section 8 of the OCS Lands Act authorizes the Secretary “to grant to the qualified persons offering the highest cash bonuses on a basis of competitive bidding leases of any mineral other than oil, gas, and sulphur in any area of the [O]uter Continental Shelf not then under lease for such mineral upon such royalty, rental, and other terms and conditions as the Secretary may prescribe at the time of offering the area for lease.” 43 U.S.C. 1337(k)(1). Additionally, the Secretary may noncompetitively negotiate agreements for the use of OCS sand, gravel, and shell resources for use in shore protection, beach restoration, or coastal wetlands restoration projects undertaken by a Federal, State, or local government agency, or for use in a construction project funded in whole or in part by or authorized by the Federal Government. 43 U.S.C. 1337(k)(2).

Section 11 of the OCS Lands Act states that “any person authorized by the Secretary may conduct geological and geophysical explorations in the [O]uter Continental Shelf, which do not interfere with or endanger actual operations under any lease maintained or granted pursuant to this subchapter, and which are not unduly harmful to aquatic life in such area.” 43 U.S.C. 1340(a)(1). The OCS Lands Act defines the term “exploration” to mean the process of searching for minerals by, among other things, “geophysical surveys where magnetic, gravity, seismic, or other systems are used to detect or imply the presence of such minerals.” 43 U.S.C. 1331(k). Section 11 authorizes permits or authorizations for geological exploration only if the Secretary determines that the applicant is qualified and the exploration will neither interfere with operations on an existing lease, unduly harm aquatic life in the area, result in pollution, create hazardous or unsafe conditions, unreasonably interfere with other uses of the area, nor disturb any site, structure, or object of historical or archaeological significance. 43 U.S.C. 1340(g).

BOEM considers applications for commercial prospecting and noncommercial exploration for marine minerals, as well as scientific research related to marine minerals. Under 30 CFR part 580, G&G prospecting by any person on unleased lands or on lands leased to a third party requires a BOEM permit. G&G activities conducted for scientific or academic purpose require submission of a scientific research notice.² See 30 CFR 580.11. Because 30 CFR part 580 does not apply to noncommercial exploration, such activities are authorized directly pursuant to section 11 of the OCS Lands Act. Noncommercial exploration includes searching for sand, gravel, and other sources of sediment for potential use in qualifying beach nourishment and coastal restoration projects.

² A permit is required for scientific research activities that involve the use of solid or liquid explosives, the drilling of a deep stratigraphic test, or the development of data for proprietary use or sale. 30 CFR 580.11(a).

As a Federal agency, BOEM must comply with the National Environmental Policy Act (42 U.S.C. 4321 et seq.), Endangered Species Act (16 U.S.C. 1531 et seq.), National Historic Preservation Act (54 U.S.C. 300101 et seq.), and Marine Mammal Protection Act (16 U.S.C. 1361 et seq.), among other environmental laws. Compliance with the Endangered Species Act includes a substantive duty to carry out agency action in a manner that is unlikely to jeopardize protected species or adversely modify designated critical habitat and a procedural duty to consult with the U.S. Fish and Wildlife Service and National Marine Fisheries Service, as applicable, before engaging in a discretionary action that may affect a protected species.

Under 30 CFR 580.12(a), applicants must submit form BOEM-0134, “Requirements for Geological and Geophysical Prospecting, Exploration, or Scientific Research on the Outer Continental Shelf Related to Minerals Other than Oil, Gas, and Sulphur,” to provide the information necessary to evaluate requests to conduct G&G activities for commercial prospecting, noncommercial exploration, and certain scientific research.³ Under 30 CFR 580.11(b) and 580.12(c), a notice must be filed with BOEM for scientific research activities that do not involve explosives, deep stratigraphic drilling, or proprietary interests in the collected data. BOEM uses the submitted information for several purposes: (1) To ensure there are neither adverse effects to the marine, coastal, or human environments nor unreasonable interferences with other uses; (2) to enhance personal and operational safety; (3) to analyze and evaluate preliminary or planned mining activities; (4) to monitor progress and activities on the OCS; (5) to acquire G&G data and information collected under a Federal permit or authorization; and (6) to determine eligibility for reimbursement from the Government for certain costs.

³ Form BOEM-0134 is required for scientific research activities involving explosives, deep stratigraphic drilling, or proprietary interests in the collected data. 30 CFR 580.11(a)(1)-(3).

Upon approval, BOEM issues applicants a permit or an authorization (as currently titled form BOEM-0135, “Permit for Geophysical Prospecting for Mineral Resources or Scientific Research on the Outer Continental Shelf Related to Minerals Other than Oil, Gas, and Sulphur,” or form BOEM-0136, “Permit for Geological Prospecting for Mineral Resources or Scientific Research on the Outer Continental Shelf Related to Minerals Other than Oil, Gas, and Sulphur).

BOEM may use the information collected during G&G activities to understand the characteristics of marine mineral-bearing physiographic regions of the OCS. The information aids BOEM in analyzing and weighing the potential for environmental damage, the discovery of marine minerals, and any associated impacts on adjacent coastal States.

OMB Control Number: 1010-0072.

Form Number: Please note: Upon OMB approval of this ICR, BOEM will implement new titles for the three existing forms discussed previously as follows. BOEM-0134, “Requirements for Geological and Geophysical Prospecting, Exploration, or Scientific Research on the OCS Related to Minerals Other Than Oil, Gas, and Sulphur.”

The following forms are the permits or authorizations issued by BOEM based on information provided in BOEM-0134:

BOEM-0135, “Permit for Geophysical Prospecting, Authorization of Noncommercial Geophysical Exploration or Permit for Scientific Research Related to Minerals Other Than Oil, Gas, and Sulphur on the Outer Continental Shelf.”

BOEM-0136, “Permit for Geological Prospecting, Authorization of Noncommercial Geological Exploration, or Permit for Scientific Research Related to Minerals Other Than Oil, Gas, and Sulphur on the Outer Continental Shelf.”

Type of Review: Renewal of a currently approved collection.

Respondents/Affected Public: Permittees, applicants, and other respondents, including those required to only file notices (scientific research).

Total Estimated Number of Annual Responses: 49 responses.

Total Estimated Number of Annual Burden Hours: 730 hours.

Respondent's Obligation: Mandatory or required to obtain or retain a benefit.

Frequency of Collection: On occasion, annual, or as specified in permits or authorizations.

Total Estimated Annual Non-Hour Burden Cost: $4,024 non-hour cost burden.

Estimated Reporting and Recordkeeping Hour Burden: BOEM estimates 730 burden hours for this renewal, which is a 245-hour increase in annual burden hours over the currently approved information collection. The increase in burden hours is attributed to the expected increase in the number of annual applications, permits, and authorizations.

A Federal Register notice with a 60-day public comment period on this proposed ICR was published on April 5, 2021 (86 FR 17636). BOEM did not receive any comments during the 60-day comment period.

BOEM is again soliciting comments on this proposed ICR. BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to OMB for approval of this ICR. You should be aware that your entire comment—including your address, phone number, email address, or other personally identifying information—may be publicly disclosed. In order to inform BOEM's decision whether it can withhold from disclosure your personally identifiable information, you must identify any information contained in your comment that, if released, would clearly constitute an unwarranted invasion of your privacy. Also, you must briefly describe possible harmful consequences of disclosing that information, such as embarrassment, injury, or other harm. While you can ask BOEM in your comment to withhold your personally identifiable information from public disclosure, BOEM cannot guarantee that it will be able to do so.

BOEM protects proprietary information in accordance with the Freedom of Information Act (FOIA, 5 U.S.C. 552), and the Department of the Interior's implementing regulations (43 CFR part 2).

A Federal agency may not conduct or sponsor, and a person is not required to respond to, a collection of information unless it displays a currently valid OMB control number.

The authority for this action is 44 U.S.C. 3501 et seq. (Paperwork Reduction Act of 1995).

Signed:
Deanna Meyer-Pietruszka,
Chief, Office of Policy, Regulation, and Analysis.

[FR Doc. 2021-17831 Filed 8-19-21; 8:45 am]

BILLING CODE 4310-MR-P